DEPARTMENT OF HEALTH AND HUMAN SERVICES

Centers for Disease Control and Prevention

[30Day-14-14DF]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

Sexually Transmitted Infection Services at U.S. Colleges and Universities—New—National Center for HIV/AIDS, Viral Hepatitis, STD and TB Prevention (NCHHSTP), Centers for Disease Control and Prevention (CDC).

Background and Brief Description

Approximately 43% of the over 30 million 18-24 year olds in the United States are currently enrolled in college or graduate school. These institutions comprise a mix of 2-year and 4-year colleges, public and private institutions, technical schools, and community colleges. In the U.S. young adulthood is the peak age group for many risk behaviors including unprotected sex. College students, who are typically at the age of most risk for acquiring a sexually transmitted infection (STI), may face challenges when seeking sexual and reproductive health care on campus.

The last national study exploring the availability of STI services in U.S. colleges and universities (2- and 4-year) was conducted in 2001 and found that only 60% (474/736) of schools had a health center. Health centers were more common among larger schools (greater than 4,000 students) that were privately funded and 4-year universities with housing. Of the health centers, 66% provided STI services, 55% provided obstetrical and gynecologic care, and 54% provided contraceptive services.

National Survey of Family Growth (NSFG) data estimates that the percentage of 18- to 22-year-olds ever tested for HIV is 34.2%; and only 18% reported being tested in the past year. Although risk factors for HIV/STI transmission (e.g., sex with multiple partners, unprotected sex, and using drugs or alcohol during sexual activity) can be particularly evident among college students in general, students enrolled at colleges with significant minority enrollment (SMEs) may face additional challenges such as greater risk of transmission during new sexual encounters due to sexual partner networks and limited access to quality healthcare and prevention education.

Given this information, there is a great deal of opportunity for expanding access to care, especially among schools which are unable to offer student health services on campus. Many schools, including both 2- and 4-year schools, may find it more difficult to offer student health services because of constrained budgets or geographical location. Depending on location, some may serve a disproportionate number of students from low socio-economic backgrounds. This means in general, their students are more likely to be un- or underinsured or to be Medicaid eligible.

CDC is requesting a one year OMB approval for this information collection. The purposes of this data collection are to (1) provide an estimate of the proportion of colleges not offering health services on campus, (2) explore the reasons as to why health services are offered, and (3) describe the current extent of U.S. colleges and universities provisions of health services in regards to HIV/STI education, prevention and treatment.

The information will be used to provide technical assistance to colleges and universities interested in alternative solutions for providing health care services to their students.

The list of eligible respondents comes from the Integrated Postsecondary Education Data System (IPEDS), using 2011 enrollment data. Applying our criteria to include only active, 2- or 4-year, degree granting, accredited public or not for profit private schools, that enrolled at least 500 undergraduates and/or graduate students located in the 50 states and the District of Columbia our total population was 2,753 schools. Using stratified sampling, we sampled 885 universities and colleges to survey on their provision of health services as they relate to HIV & STI education, treatment and prevention.

CDC investigators will email an introductory letter inviting the contact person at each school to participate in the survey, noting that the questionnaire should be completed by the person with the most knowledge and access to information about health services on campus. For example, these persons would include Health services Directors or Campus Administrators. The estimated burden per respondent is approximately 45 minutes.

The questionnaire will collect information regarding various aspects of health services provided by the school. These include requirements for student health insurance, preventive services, testing and treatment of HIV and STDs, partner management, and accessibility of health services by students. After signing and agreeing to terms outlined in the letter, confirming participation in the survey, another email with a link to the self-administered electronic questionnaire (via SurveyMonkey) will be sent. Schools will have three weeks to respond to the survey. Investigators will send a reminder at 1.5 weeks, 3 days prior to closeout, and then last day of data collection period. Once all the surveys are returned, two researchers will review and contact schools about inconsistent or invalid responses, and make corrections as needed. Basic school characteristics will be gathered from the IPEDs database on each school (e.g. institution type, funding type, size of enrollments, region, etc.).

The total estimated time frame for the project, including administration of the survey, collection period, data analysis and writing of findings is about 6-9 months. The results and findings will be written for publication in a peer-reviewed journal and an aggregated, summary report will be shared with all participating schools. This data collection effort will also allow investigators to provide technical assistance to colleges and universities interested in alternative solutions for providing health care services to their students. Participation is voluntary and there are no costs to respondents other than their time. The total annualized response burden is estimated at 664 hours.

Estimated Annualized Burden Hours
Type of respondents | Form name | Number of respondents | Number of responses per respondent | Avg. burden per response (in hrs.)
Health Services Personnel | College Survey | 885 | 1 | 45/60

LeRoy Richardson,
Chief, Information Collection Review Office, Office of Scientific Integrity, Office of the Associate Director for Science, Office of the Director, Centers for Disease Control and Prevention.

[FR Doc. 2014-08300 Filed 4-11-14; 8:45 am]

BILLING CODE 4163-18-P